DEPARTMENT OF TRANSPORTATION

Federal Aviation Administration

14 CFR Part 71

[Docket No. FAA-2005-20056; Airspace Docket No. 05-AEA-01]

Amendment of Class E Airspace; Harrisburg, PA

AGENCY: Federal Aviation Administration [FAA] DOT.

ACTION: Final rule.

SUMMARY: This action amends Class E airspace at Harrisburg, PA. The development of multiple area navigation (RNAV) Standard Instrument Approach Procedures (SIAP) for numerous airports within the Harrisburg, PA metropolitan area with approved Instrument Flight Rule (IFR) operations and the resulting overlap of designated Class E-5 airspace have made this action necessary. This action consolidates the Class E-5 airspace designations for nine airports and results in the rescission of seven Class E-5 descriptions through separate rulemaking action. The area will be depicted on aeronautical charts for pilot reference.

EFFECTIVE DATE: 0901 UTC July 7, 2005.

FOR FURTHER INFORMATION CONTACT: Mr. Francis Jordan, Airspace Specialist, Airspace and Operations, ETSU, Federal Aviation Administration, 1 Aviation Plaza, Jamaica, New York 11434-4809, telephone: (718) 553-4521.

SUPPLEMENTARY INFORMATION:

History

On February 8, 2005, a notice proposing to amend part 71 of the Federal Aviation Regulations (14 CFR part 71) by consolidating existing Class E-5 airspace designations in the Harrisburg, PA metropolitan area and incorporating those areas into the Harrisburg, PA description was published in the Federal Register (70 FR 6601-6602). Interested parties were invited to participate in this rulemaking proceeding by submitting written comments on the proposal to the FAA. No comments to the proposal were received. The rule is adopted as proposed.

The coordinates for this airspace docket are based on North American Datum 83. Class E airspace area designations for airspace extending upward from the surface are published in paragraph 6005 of FAA Order 7400.9M, dated August 30, 2004 and effective September 16, 2004, which is incorporated by reference in 14 CFR 71.1. The Class E airspace designation listed in this document will be amended in the order.

The Rule

This amendment to part 71 of the Federal Aviation Regulations (14 CFR 71) provides controlled Class E airspace extending upward from 700 ft above the surface for aircraft conducting IFR operations within the Harrisburg, PA Class E-5 airspace description.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR Part 71 continues to read as follows:

Authority: 49 U.S.C. 106(g), 40103, 40113, 40120; EO 10854, 24 FR 9565, 3 CFR, 1959-1963 Comp., p. 389.

§ 71.1 [Amended]

2. The incorporation by reference in 14 CFR 71.1 of Federal Aviation Administration Order 7400.9M, Airspace Designations and Reporting Points, dated August 30, 2004, and effective September 16, 2004, is amended as follows:

Paragraph 6005 Class E airspace areas extending upward from 700ft above the surface of the earth.

* * * * *

AEA PA E5 Harrisburg, PA (Revised)

That airspace extending upward from 700 feet above the surface within an area bounded by a ling beginning at lat. 37°43′19″ N., long. 76°51′26″ W., to lat. 40°7′49″ N., long 77°20′54″ W., to lat. 40°16′46″ N., long. 77°20′53″ W., to lat. 40°42′10″ N., long. 76°32′34″ W., to lat. 40°13′15″ N., long. 76°00′32″ W., to lat. 40°00′59″ N., long. 76°01′11″ W., to the point of beginning, excluding that portion that coincides with the Pottsville, PA, Class E airspace area and the Reading, PA, Class E airspace area.

* * * * *

Issued in Jamaica, New York, on March 28, 2005.
John G. McCartney,
Acting Area Director, Eastern Terminal Operations.

[FR Doc. 05-7191 Filed 4-8-05; 8:45 am]

BILLING CODE 4910-13-M